Proclamation 10299 of October 29, 2021

National Diabetes Month, 2021

By the President of the United States of America

A Proclamation

Over the last 20 years, our Nation has seen a significant rise in the number of adults diagnosed with diabetes—a chronic condition that can lead to heart disease, kidney disease, vision loss, and other serious health problems. Today, more than 34 million American adults are living with diabetes, and an estimated 88 million more may be at risk of developing the disease. During National Diabetes Month, we draw awareness to all forms of this dangerous condition—including Type 1, Type 2, and gestational diabetes and prediabetes—and recommit ourselves to finding a cure.

Over the last year and a half, people living with diabetes have faced heightened risks to their health, as their illness makes them more vulnerable to the worst effects of COVID-19. This has been especially true for far too many Black, Brown, and Indigenous Americans, who face a disproportionate risk of being diagnosed with diabetes and who have shouldered the burden of the pandemic at disproportionate rates. More young Americans are also living with Type 2 diabetes than ever before, putting them at risk of developing serious health problems later in life. Americans who are diagnosed have faced the added challenge of unacceptably high insulin prices—putting their health and the financial well-being of their family at risk.

My Administration is committed to finding a cure for diabetes. To that end, I have asked the Congress to fund a new agency called the Advanced Research Projects Agency for Health (ARPA-H). Modeled on the Defense Advanced Research Project Agency, a Government program that led to the creation of the Internet, GPS, and countless other vital technologies—ARPA-H would accelerate our research on detecting, treating, and curing diseases like diabetes and Alzheimer's. In addition to this effort, my Administration has provided funding through the American Rescue Plan to address diabetes and other chronic diseases by shoring up our public health infrastructure and combatting hunger and food insecurity. To lower the costs faced by more than 7 million Americans who require insulin to treat their diabetes, I have called on the Congress to give Medicare the power to negotiate prescription drug prices, especially for companies that do not face competition.

As we work together to fight diabetes, my Administration will continue to build on the Affordable Care Act (ACA) and strengthen the coverage it provides for nearly 2 million American adults with diabetes. The ACA continues to connect people with services and health care providers who can ensure appropriate testing, prevention, and treatment of diabetes and the many conditions it can spawn. Millions of families enrolled in private insurance, Medicare, and Medicaid are benefiting from the ACA's critical provisions, which help Americans with diabetes live better, longer lives as we continue searching for a cure.

While we continue to seek that cure, my Administration is also working to improve our awareness and prevention of Type 2 diabetes. Thanks in part to the Diabetes Prevention Program at the National Institutes of Health, we know that lifestyle changes—including increased physical activity and healthy eating—can prevent or delay Type 2 diabetes for people at high risk. Eligible Americans can also take part in the National Diabetes Prevention Program, a lifestyle change program led by the Centers for Disease Control and Prevention (CDC) at sites around the country. Because so many cases of diabetes go undiagnosed, the CDC offers an online risk test so that everyone can learn about their risk factors for the disease.

This year marks the 100th anniversary of the discovery of insulin, a crucial hormone that has saved millions of lives. As we continue our work to lower health care costs, expand coverage, and find a cure for diabetes, we commemorate this important discovery and recommit ourselves to improving treatment for all types of diabetes.

NOW, THEREFORE, I, JOSEPH R. BIDEN JR., President of the United States of America, by virtue of the authority vested in me by the Constitution and the laws of the United States, do hereby proclaim the month of November 2021 as National Diabetes Month. I call upon all Americans, school systems, government agencies, nonprofit organizations, health care providers, research institutions, and other interested groups to join in activities that raise diabetes awareness and help prevent, treat, and manage the disease.

IN WITNESS WHEREOF, I have hereunto set my hand this twenty-ninth day of October, in the year of our Lord two thousand twenty-one, and of the Independence of the United States of America the two hundred and forty-sixth.

[FR Doc. 2021-24117

Filed 11-2-21; 8:45 am]

Billing code 3395-F2-P